DEPARTMENT OF TRANSPORTATION

Office of the Secretary

[Docket No. DOT-OST-2018-0215]

Privacy Act of 1974; Department of Transportation (DOT), Federal Aviation Administration, (DOT/FAA) 833 Quarters Management Information System (QMIS) System of Records

AGENCY: Office of the Departmental Chief Information Officer, Office of the Secretary of Transportation, DOT.

ACTION: Rescindment of a System of Records Notice.

SUMMARY: In accordance with the Privacy Act of 1974, the Department of Transportation is proposing to retire a Department of Transportation system of records titled, `Department of Transportation/Federal Aviation Administration (DOT/FAA) 833 Quarters Management Information System (QMIS) System of Records,' which covered employees occupying FAA owned or leased housing. The FAA uses the DOI iQMS to support business activities formerly managed in QMIS. See (https://www.doi.gov/sites/doi.gov/files/uploads/iqmis_pia_final_06.13.2018.pdf). iQMIS is not a system of records because records cannot be retrieved by an individual's name or other unique identifier. Users retrieve records by housing installation name and housing unit number. Rent collected from the employee/tenant through payroll deduction actions are processed through the DOI's Federal Personnel and Payroll System (FPPS) which is a federal shared service system. DOT records in FPPS are maintained under the DOT/ALL 19—Federal Personnel and Payroll System (FPPS)—73 FR 66285—November 7, 2008.

DATES: The FAA stopped operating the QMIS system in 2013.

ADDRESSES: You may submit comments, identified by docket number DOT-OST-2018-0215 by any of the following methods:

Federal e-Rulemaking Portal: http://www.regulations.gov. Follow the instructions for submitting comments.

Mail: Docket Management Facility, U.S. Department of Transportation, 1200 New Jersey Ave. SE, West Building Ground Floor, Room W12-140, Washington, DC 20590-0001.

Hand Delivery or Courier: West Building Ground Floor, Room W12-140, 1200 New Jersey Ave. SE, between 9 a.m. and 5 p.m. ET, Monday through Friday, except Federal Holidays.

Fax: (202) 493-2251.

Instructions: You must include the agency name and docket number. All comments received will be posted without change to http://www.regulations.gov, including any personal information provided.

FOR FURTHER INFORMATION CONTACT: For questions, please contact: Claire W. Barrett, Departmental Chief Privacy Officer, Privacy Office, Department of Transportation, Washington, DC 20590; privacy@dot.gov; or 202.527.3284.

SUPPLEMENTARY INFORMATION: In accordance with the Privacy Act of 1974, 5 U.S.C. 552a, the Department of Transportation (DOT)/Federal Aviation Administration (FAA) proposes to retire DOT system of records titled, “Department of Transportation/Federal Aviation Administration (DOT/FAA) 833 Quarters Management Information System.” Covered individuals in the system of records were; employees occupying FAA owned or leased housing and employees and agencies that lease FAA housing in Alaska. Records were used to establish regional rental rates for quarters; maintain status of housing; and maintain up-to-date list of persons. Additionally, records were used to establish and terminate payroll deductions for collection of housing occupying FAA units rent through request to the appropriate payroll office. Records for this system were destroyed in accordance with GRS 15, Housing Records. Records from the FAA's QMIS were not transferred to DOI. Eliminating this system of records notice will have no adverse impact on individuals, but will promote the overall streamlining and management of DOT Privacy Act systems of records.

System Name and Number: Department of Transportation (DOT/FAA) 833 Quarters Management Information System.

History: The full notice was published in the Federal Register on April 11, 2000 (65 FR 19525).

Issued in Washington, DC, on December 20, 2018.
Claire W. Barrett,
Departmental Chief Privacy Officer.

[FR Doc. 2018-28061 Filed 12-26-18; 8:45 am]

BILLING CODE 4910-9X-P